DEPARTMENT OF THE INTERIOR

Bureau of Land Management

[CA-670-01-1610-DL]

Motor Vehicle Use Restrictions: Coyote Mountains, CA

AGENCY: Bureau of Land Management, Interior.

ACTION: Pursuant to Title 43 Code of Federal Regulations Part 8364.1 the Bureau of Land Management will seasonally close routes of travel on Public Lands in the Coyote Mountains of western Imperial County to motorized vehicle use.

SUMMARY: Notice is hereby given that from January 1 to June 30 each year the BLM will close sections of BLM routes T670130 and T670214 located in the Coyote Mountains of Imperial County to access by motorized vehicles. The proposed closure is to provide interim protection for the Peninsular Bighorn Sheep (PBS), PBS habitat, and other resource values by reducing disturbances caused by motorized vehicle use authorized under the California Desert Conservation Area (CDCA) Plan, as amended. By taking interim actions as allowed under 43 CFR part 8364.1, the BLM contributes to the conservation of endangered and threatened species in accordance with 7(a)(1) of the ESA. BLM also avoids making any irreversible or irretrievable commitment of resources which would foreclose any reasonable and prudent alternative measures which might be required as a result of the consultation on the CDCA plan in accordance with 7(d) of the ESA.

The closure will remain in effect until BLM receives a biological opinion from the Fish and Wildlife Service on the effects of the CDCA Plan on PBS and implements any applicable terms and conditions, reasonable and prudent alternatives, and/or reasonable and prudent measures of the opinion that require implementation.

The sections of the routes subject to this seasonal closure, and the other routes that will consequently be closed, exist in portions of sections 21, 22, 23, 25, 26, 27, 28, 35 and 36, Township 15 South, Range 9 East; of sections 1 and 2, Township 16 South, Range 9 East; and of section 6, Township 16 South, Range 10 East, SBM. The following motorized vehicles are exempt from this order: (1) Fire, military, emergency or law enforcement vehicles when used for emergency or patrol purposes; (2) vehicles whose use is expressly approved by the Authorized Officer; (3) vehicles used for official purposes by employees, agents, or designated representatives of the Federal Government or one of its contractors. These closures shall be in effect year-round beginning no sooner than thirty (30) days from the date of this notice, until completion of programmatic consultation between the BLM under Section 7 of the Endangered Species Act (ESA) with U.S. Fish and Wildlife Service and implementation of any applicable terms and conditions, reasonable prudent alternatives and/or reasonable prudent measures. Closure of these routes also will prevent motorized vehicle use of other BLM routes labeled T670121, T670128 and T670129 that are only accessible via the closed portions of BLM routes T670130 and T670214. Non-motorized uses (e.g., hiking, bicycling, horseback riding) of closed sections on any of the roads described above are not affected by this order. Trails developed primarily for non-motorized use are also not affected by the seasonal closure.

BLM routes T670130 and T670214 are accessible from Painted Gorge Road. Painted Gorge Road is a county-maintained road extending from Evan Hewes Highway to the foothills of the Coyote Mountains (approximately 4-5 miles in length). BLM routes T670130 and T670214 fork off the termination of Painted Gorge Road and continue into the Coyote Mountains, both routes leading to Carrizo Peak. The closure of these two routes will prevent access to Carrizo Peak from Painted Gorge Road.

Two gates will be installed by BLM to prevent access by motorized vehicles, located as follows:

1. Along route T670130 at UTM coordinates 595590.03 E; 3631014.84 N. These UTM coordinates correspond to a point within the NW¼ of section 6, T. 16 S., R. 10 E., SBM.

2. Along route T670214 at UTM coordinates 594895.87 E; 3632292.29 N. These UTM coordinates correspond to a point within the NE¼ of section 36, T. 15 S., R. 9 E., SBM. Any person who fails to comply with this order may be subject to the penalties provided in 43 CFR 8360.0-7.

SUPPLEMENTARY INFORMATION: On March 18, 1998, the U.S. Fish and Wildlife Service (USFWS) declared through publication of a final rule that the Peninsular Bighorn Sheep occupying the Peninsular Ranges of southern California are endangered pursuant to the ESA of 1973, as amended. The current population of bighorn sheep in the United States' Peninsular Ranges approximates 335 animals distributed in eight known ewe groups (subpopulations) from the San Jacinto Mountains south to the Mexican border.

On March 16, 2000, the Center for Biological Diversity, and others (Center) filed for injunctive relief in U.S. District Court, Northern District of California (court) against the Bureau of Land Management (BLM) alleging that the BLM was in violation of Section 7 of the Endangered Species Act (ESA) by failing to enter into formal consultation with the U.S. Fish and Wildlife Service (FWS) on the effects of adoption of the California Desert Conservation Area Plan (CDCA Plan), as amended, upon threatened and endangered species. On August 25, 2000, the BLM acknowledged through a court stipulation that activities authorized, permitted, or allowed under the CDCA Plan may adversely affect threatened and endangered species, and that the BLM is required to consult with the FWS to insure that adoption and implementation of the CDCA Plan is not likely to jeopardize the continued existence of threatened and endangered species or to result in the destruction or adverse modification of critical habitat of listed species. On March 1, 2001, the revised stipulation respecting PBS became effective.

Although BLM has received biological opinions on selected activities, consultation on the overall CDCA Plan is necessary to address the cumulative effects of all the activities authorized by the CDCA Plan. Consultation on the overall Plan is complex and the completion date is uncertain. Absent consultation on the entire Plan, the impacts of individual activities, when added together with the impacts of other activities in the desert are not known. The BLM entered into negotiations with plaintiffs regarding interim actions to be taken to provide protection for endangered and threatened species pending completion of the consultation on the CDCA Plan. Agreement on these interim actions avoided litigation of plaintiffs' request for injunctive relief and the threat of an injunction prohibiting all activities authorized under the Plan. These interim agreements have allowed the BLM to continue to authorize appropriate levels of activities throughout the planning area during the lengthy consultation process while providing appropriate protection to the desert tortoise and other listed species in the short term. By taking interim actions as allowed under 43 CFR part 8364.1, the BLM contributes to the conservation of endangered and threatened species in accordance with 7(a)(1) of the ESA. BLM also avoids making any irreversible or irretrievable commitment of resources which would foreclose any reasonable and prudent alternative measures which might be required as a result of the consultation on the CDCA plan in accordance with 7(d) of the ESA.

The EA indicates the following reasons for the closure: In the Draft Recovery Plan for the Bighorn Sheep in the Peninsular Ranges (USFWS 1999), several studies are identified that link vehicle use with modification of bighorn sheep behavior (Jorgensen, 1974; Leslie and Douglas, 1980; Campbell and Remington, 1981; Miller and Smith, 1985). The Coyote Mountains are within designated critical habitat for the PBS. The proposed route closure and gate construction would be a benefit to PBS and other wildlife resources. Disturbances from vehicles would be reduced during the critical lambing season which would increase the probability of lamb survival.

Motorized vehicle use in Painted Gorge potentially conflicts with lambing season, January through June, because most visitors use the area between October and May. The existing roads and trails in the Coyote Mountains provide a wide array of recreational opportunities for people who use motorcycles, ATV's, and 4-Wheel vehicles, including trail riding, touring and play riding.

DATES: The seasonal closure will be effective no sooner than July 16, 2001. The EA concerning this closure is available for a 15-day review period. Interested parties should contact the Field Office Manager for a copy and review schedule. Written comments may be sent to the address listed below in this notice.

FOR FURTHER INFORMATION CONTACT: El Centro BLM Field Manager, 1661 South 4th Street, El Centro, CA 92243.

ADDRESSES: Written comments may be sent to Bureau of Land Management, El Centro Field Office, 1661 South 4th Street, El Centro, CA 92243, Tel: 760-337-4400.

Dated: June 4, 2001.
Gail Acheson,
Acting Deputy Director for Natural Resources.

[FR Doc. 01-15134 Filed 6-13-01; 8:45 am]

BILLING CODE 4310-40-P